DEPARTMENT OF THE TREASURY

Submission for OMB Review; Comment Request

November 27, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 5, 2004 to be assured of consideration.

Internal Revenue Service (IRS)

OMB Number: 1545-0043.

Form Number: IRS Form 972.

Type of Review: Extension.

Title: Consent of Shareholder to Include Specific Amount in Gross Income.

Description: Form 972 is filed by shareholders of corporations to elect to include an amount in gross income as a dividend. The IRS uses Form 972 as a check to see if an amended return is filed to include the amount income and to determine if the corporation claimed the correct amount.

Respondents: Individuals or households, business or other for-profit.

Estimated Number of Respondents/Recordkeeping: 400.

Estimated Burden Hours Respondent/Recordkeeper:

Recordkeeping—13 min.

Learning about the law or the form—4 min.

Preparing the form—16 min.

Copying, assembling, and sending the form to the IRS—20 min.

Frequency of Response: On occasion.

Estimated Total Reporting/Recordkeeping Burden: 368 hours.

OMB Number: 1545-0138.

Form Number: IRS Form 2063.

Type of Review: Revision.

Title: U.S. Departing Alien Income Tax Statement.

Description: Form 2063 is used by a departing resident alien against whom a termination assessment has not been made, or a departing nonresident alien who has no taxable income from United States sources, to certify that they have satisfied all U.S. income tax obligations. The data is used by the IRS to certify that departing aliens have complied with U.S. income tax laws.

Respondents: Individuals or households.

Estimated Number of Respondents/Recordkeepers: 20,540.

Estimated Burden Hours Respondent/Recordkeeper:

Recordkeeping—6 min.

Learning about the law or the form—3 min.

Preparing the form—26 min.

Copying, assembling, and sending the form to the IRS—13 min.

Frequency of Response: On occasion.

Estimated Total Reporting/Recordkeeping Burden: 17,049 hours.

Clearance Officer: R. Joseph Durbala, (202) 622-3634, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-30242 Filed 12-4-03; 8:45 am]

BILLING CODE 4830-01-U